DEPARTMENT OF AGRICULTURE

Forest Service

Superior National Forest, LaCroix and Kawishiwi Ranger Districts, Minnesota Echo Trail Area Forest Management Project Environmental Impact Statement

AGENCY: Forest Service, USDA.

ACTION: Notice of intent to prepare an environmental impact statement.

SUMMARY: The Department of Agriculture, Forest Service, will prepare an environmental impact statement (EIS) for the Echo Trail Area Forest Management Project. The Record of Decision will disclose how the Forest Service will manage vegetation to meet landscape ecosystem objectives in the Project Area. The project Area encompasses about 126,000 acres of National Forest System land. The Proposed Action would provide approximately 80 million board feet of timber to local and regional timber markets; harvest approximately 16,006 acres of mature and overmature stands in the Jack Pine/Black Spruce, Dry-mesic Red and White Pine, and Lowland Conifer landscape ecosystems; thin about 838 acres of pine; do timber stand improvement activities on about 287 acres and diversity planting on about 981 acres; and provide road access across National Forest System land to State and county forested lands. The transportation system would also be analyzed to provide roads for forest resource management. A range of alternatives, including a no-action alternative, will be developed to respond to significant issues. The proposed project is located on the LaCroix and Kawishiwi Ranger Districts, Cook and Ely, Minnesota, Superior National Forest. In addition , the Proposed Action may create temporary openings greater than 1,000 acres.

DATES: Comments concerning the scope of this project must be received by May 9, 2005. The draft environmental impact statement is expected October 2005. The final environmental impact statement is expected March 2006.

ADDRESSES: Send written comments to Nancy S. Larson, LaCroix District Ranger, Echo Trail Area Forest Management Project EIS, LaCroix Ranger District, 320 North Highway 53, Cook, MN 55723. For further information, mail correspondence to Carol Booth, Project Leader, at the address above. Send electronic comments to comments-eastern-superior-la-croix@fs.fed.us. See SUPPLEMENTARY INFORMATION section below for how to send electronic comments.

FOR FURTHER INFORMATION CONTACT: Nancy S. Larson, LaCroix District Ranger, or Carol Booth, Echo Trail Area Project Leader at Addresses above or telephone: (218) 666-0020.

SUPPLEMENTARY INFORMATION:

Purpose and Need for Action

The purpose of the Echo Trail Area Forest Management Project is to move the area towards the vegetation and landscape ecosystem desired conditions described in the 2004 Superior National Forest Plan.

Proposed Action

The proposed action would include clearcut harvesting with reserve trees about 16,006 acres and thinning about 838 acres, resulting in an estimated 80 million board feet available for timber sales. In addition, about 34 miles of road would be added to the transportation system and about 51 miles of road would be decommissioned. Special use road permits for about 12 miles of roads would be issued to the State and county.

Responsible Officials

Nancy S. Larson, LaCroix District Ranger, 320 North Highway 53, Cook, MN 55723 and Mark E. Van Every, Kawishiwi District Ranger, 118 South 4th Ave. East, Ely, MN 55731.

Nature of Decision To Be Made

An environmental analysis for this project area will evaluate site-specific issues, consider alternatives, and analyze the potential effects of the proposed action and alternatives. The scope of the project is limited to decisions concerning activities within the Echo Trail Project Area that meet the purpose and need and desired conditions. An environmental impact statement will provide the deciding officials (Nancy S. Larson, LaCroix District Ranger and Mark Van Every, Kawishiwi District Ranger) with the information needed to make the following decisions for the Echo Trail Area Forest Management Project:

1. What actions would be used to address the purpose and need.

2. Where and when those actions would take place.

3. What mitigation measure and monitoring requirements would be required.

Scoping Process

Public participation will be an integral component of the analysis process, and will be especially important at several points during the analysis. The first is during the scoping process. The Forest Service is seeking information, comments, and assistance from Federal agencies, State agencies, local agencies, individuals, and organizations that may be interested or affected by the proposed activities. The scoping process will include: (1) Identification of potential issues, (2) identification of issues to be analyzed in depth, and (3) elimination of insignificant issues, or those which have been covered by a previous environmental review. Based on the results of scoping and the resource capabilities within the project area, alternatives, including a no-action alternative, will be developed for the draft environmental impact statement.

Permits or Licenses Required

The proposed action may create temporary openings greater than 1,000 acres. A 60-day public notice and review by the Regional Forester would be needed for such action.

Easement or permission to cross non-federal property may be needed to access some treatment units to implement Forest Service activities.

Comment Requested

This notice of intent initiates the scoping process which guides the development of the environmental impact statement. Written comments will be solicited through a scoping package that will be sent to the project mailing list. For the Forest Service to best use the scoping input, comments must be received by May 9, 2005. Include name, address, and title of the project with your comments.

Early Notice of Importance of Public Participation in Subsequent Environmental Review: A draft environmental impact statement will be prepared for comment. The comment period on the draft environmental impact statement will be 45 days from the date the Environmental Protection Agency publishes the notice of availability in the Federal Register.

The Forest Service believes, at this early stage, that it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553, (1978). Also, environmental objects that could have been raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns of the proposed action, comments on the draft environmental impact statement should be as specific as possible. It is also helpful if comments refer to specific pages or chapter of the draft statement. Comments may also address the adequacy of the draft environmental impact statement or the merits of the alternatives formulated and discussed in the statement. Reviewers may wish to refer to the Council on Environmental Quality regulations for implementing the procedural provisions of the National Environmental Policy Act in 40 CFR 1503.3.

Comments received, including names and addresses of those who comment, will be considered part of the public record on this proposal and will be available for public inspection. Comments submitted anonymously will be accepted and considered. Pursuant to 7 CFR 1.27(d), any person may request the agency to withhold a submission, from the public record, by showing how the Freedom of Information Act (FOIA) permits such confidentiality. Requesters should be aware that, under FOIA, confidentiality may be granted in only very limited circumstances, such as to protect trade secrets. The Forest Service will inform the requester of the agency's decision regarding the request for confidentiality. If the request is denied, the agency will return the submission and notify the requester that the comments may be resubmitted with or without name and address within seven days.

In making the decision, the responsible officials will consider the comments, responses, disclosure of environmental consequences, and applicable laws, regulations, and policies. The responsible officials will state the rationale for the chosen alternative in the Record of Decision.

Dated: March 21, 2005.
Nancy S. Larson,
LaCroix District Ranger.
Dated: March 21, 2005.
Mark E. Van Every,
Kawishiwi District Ranger.

[FR Doc. 05-5908 Filed 3-24-05; 8:45 am]

BILLING CODE 3410-11-M